FEDERAL COMMUNICATIONS COMMISSION

Notice of Public Information Collection(s) Being Submitted to OMB for Review and Approval

May 6, 2005.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before June 17, 2005. If you anticipate that you will be submitting comments, but find it difficult to do so within the period of time allowed by this notice, you should advise the contact listed below as soon as possible.

ADDRESSES: Direct all Paperwork Reduction Act (PRA) comments to Les Smith, Federal Communications Commission, Room 1-A804, 445 12th Street, SW., Washington, DC 20554 or via the Internet to Leslie.Smith@fcc.gov.

FOR FURTHER INFORMATION CONTACT: For additional information or copies of the information collection(s), contact Les Smith at (202) 418-0217 or via the Internet at Leslie.Smith@fcc.gov.

SUPPLEMENTARY INFORMATION: OMB Control Number: 3060-0589.

Title: FCC Remittance Advice and Continuation Sheet, Bill for Collection, FCC Remittance Advice for Regulatory Fees (E-Form).

Form Number(s): FCC Forms 159, 159-C, 159-B, and 159-E.

Type of Review: Revision of a currently approved collection.

Respondents: Individuals or households; business or other for-profit entities; not-for-profit institutions; Federal government; and State, local, or tribal government.

Number of Respondents: 150,000.

Estimated Time per Response: 10 minutes to 4 hours.

Frequency of Response: On occasion and annual reporting requirements; Third party disclosure.

Total Annual Burden: 37,500 hours.

Total Annual Cost: N/A.

Privacy Impact Assessment: N/A.

Needs and Uses: The Commission has created a new streamlined electronic form, FCC Form 159-E, to associate a mailed or faxed payment with regulatory fees, which were filed on-line. Pertinent information will be taken directly from the regulatory fee electronic filing system (Fee Filer) and populated on the FCC Form 159-E, which can be printed by the filer. The FCC Form 159-E, essentially a simple payment voucher, will contain summary information, which will distinguish the payment but not detailed information about the fee(s). Specific associated fee information will be available on a separate report, which the filer does not need to remit. Beginning with FY 2005 regulatory fees, the FCC Form 159-E must accompany all payments derived from the regulatory fee electronic filing system, except on-line payments, which do not require any paper submission. Payment may be made by check or money order, credit card or wire transfer.

The Commission will use this information to apply credit for the remittance against all regulatory fees within the associated electronic submission. The payment instrument must be in the dollar amount specified on the FCC Form 159-E for full credit to be applied. Expanded use of the FCC Form 159-E is possible in the future as additional streamlining for this process is implemented. This form may be used in lieu of pre-populated FCC Form 159's, which are currently produced to facilitate remittance for various electronic filings. The FCC Form 159-E may, therefore, impact users of all electronic filing systems, as well as users of an FCC bill paying system (currently Fee Filer and the Red Light Display system).

This information collection may affect some individuals or households; however, the Commission has in place a registration process http://www.fcc.gov, which issues a Federal Registration Number (FRN) to each applicant/licensee, etc., for use in filing any of these FCC Forms 159/159-C, 159-B, and 159-E. As part of the registration process, the applicant/licensee's SSN or TIN is stored in a secure environment, which minimizes any potential privacy risks.

Federal Communications Commission.
Marlene H. Dortch,
Secretary.

[FR Doc. 05-9822 Filed 5-17-05; 8:45 am]

BILLING CODE 6712-10-P